DEPARTMENT OF HOMELAND SECURITY

Coast Guard

33 CFR Part 100

[Docket No. USCG-2023-0817]

Special Local Regulations; Key West World Championship, Key West, FL

AGENCY: Coast Guard, DHS.

ACTION: Notification of enforcement of regulation.

SUMMARY: The Coast Guard will enforce a special local regulation for the Key West World Championship to provide for the safety of life on navigable waterways during this event. Our regulation for marine events within the Seventh Coast Guard District identifies the regulated area for this event in Key West, FL. During the enforcement period, no person or vessel may enter, transit through, anchor in, or remain within the regulated area without permission from the Captain of the Port Key West or a designated representative.

DATES: The regulations in 33 CFR 100.701 will be enforced from 10 a.m. until 7 p.m., on November 8, 10, and 12, 2023, for the location identified in paragraph (b), Item 4 in table 1 to § 100.701.

FOR FURTHER INFORMATION CONTACT: If you have questions about this notification of enforcement, call or email Lieutenant Hailye Wilson, Sector Key West Waterways Management Division, Coast Guard; phone 305-292-8768, email Hailye.M.Wilson@uscg.mil.

SUPPLEMENTARY INFORMATION: The Coast Guard will enforce special local regulations in 33 CFR 100.701 for the Key West World Championship regulated area identified in table 1 to § 100.701, paragraph (b), Item 4, from 10 a.m. to 7 p.m. on November 8, 10, and 12, 2023. This action is being taken to provide for the safety of life on navigable waterways during this 3-day event. Our regulation for recurring marine events, Sector Key West, § 100.701, paragraph (b), Item 4, specifies the location of the regulated area for the Key West World Championship, which encompasses a portion of the Atlantic Ocean located southwest of Key West, Florida. During the enforcement period, as reflected in § 100.701(c), all persons and vessels, except those persons and vessels participating in the high speed boat races, are prohibited from entering, transiting through, anchoring in, or remaining within the regulated area without obtaining permission from the Captain of the Port Key West or a designated representative.

In addition to this notice of enforcement in the Federal Register, the Coast Guard plans to provide notification of this enforcement period via the Local Notice to Mariners, marine information broadcasts, or both.

Jason Ingram,
Captain, U.S. Coast Guard, Captain of the Port Key West.

[FR Doc. 2023-23649 Filed 10-25-23; 8:45 am]

BILLING CODE 9110-04-P